DEPARTMENT OF COMMERCE

National Oceanic and Atmospheric Administration

RIN 0648-XC959

Fisheries of the Exclusive Economic Zone Off Alaska; North Pacific Groundfish and Halibut Observer Program Standard Ex-Vessel Prices

AGENCY: National Marine Fisheries Service (NMFS), National Oceanic and Atmospheric Administration (NOAA), Commerce.

ACTION: Notification of standard ex-vessel prices.

SUMMARY: NMFS publishes standard ex-vessel prices for groundfish and halibut for the calculation of the observer fee under the North Pacific Groundfish and Halibut Observer Program (Observer Program). This notice is intended to provide information to vessel owners, processors, registered buyers, and other participants about the standard ex-vessel prices that will be used to calculate the observer fee liability for landings of groundfish and halibut made in 2014. NMFS will send invoices to processors and registered buyers subject to the fee by January 15, 2015. Fees are due to NMFS on or before February 15, 2015.

DATES: Effective January 1, 2014.

FOR FURTHER INFORMATION CONTACT: For general questions about the observer fee and standard ex-vessel prices, contact Michael Camacho at 907-586-7471. For questions about the fee billing process, contact Troie Zuniga, Fee Coordinator, 907-586-7105.

SUPPLEMENTARY INFORMATION:

Background

The Observer Program deploys NMFS-certified observers (observers) who obtain information necessary for the conservation and management of the Bering Sea and Aleutian Islands (BSAI) and Gulf of Alaska (GOA) groundfish and halibut fisheries. Fishery managers use information collected by observers to monitor quotas, manage groundfish and prohibited species catch, and document and reduce fishery interactions with protected resources. Scientists use observer-collected information for stock assessments and marine ecosystem research.

In 2012, the North Pacific Fishery Management Council restructured the Observer Program under Amendment 86 to the Fishery Management Plan for Groundfish of the Bering Sea and Aleutian Islands Management Area and Amendment 76 to the Fishery Management Plan for Groundfish of the Gulf of Alaska (Amendments 86/76). The final rule implementing Amendments 86/76 added a new funding and deployment system for observer coverage in the groundfish and halibut fisheries off Alaska that allows NMFS to determine when and where to deploy observers according to management and conservation needs. The final rule was published in the Federal Register on November 21, 2012 (77 FR 70062). Regulations implementing the Observer Program are set forth at 50 CFR part 679, subpart E.

Restructuring divided the Observer Program into two observer coverage categories—partial and full. All groundfish and halibut vessels and processors are included in one of these two categories. The partial observer coverage category includes vessels and processors that are not required to have an observer at all times; the full observer coverage category includes vessels and processors required to have all of their fishing and processing operations off Alaska observed. Vessels and processors in the full coverage category arrange and pay for observer services from a permitted observer provider. Observer coverage for the partial coverage category is funded through a system of fees based on the ex-vessel value of groundfish and halibut. The proposed rule for Amendments 86/76 (77 FR 23326; April 18, 2012) provides a detailed explanation of the vessels and processors in the partial coverage category, the landings subject to the observer fee, and the process for calculating standard ex-vessel prices. This notice summarizes that information.

Landings Subject to Observer Coverage Fee

The objective of the observer fee assessment is to levy a fee on all landings accruing against a Federal total allowable catch (TAC) for groundfish or a commercial halibut quota made by vessels that are subject to Federal regulations and not included in the full coverage category. Therefore, a fee is only assessed on landings of groundfish from vessels designated on a Federal Fisheries Permit (FFP) or from vessels landing individual fishing quota (IFQ) or community development quota (CDQ) halibut or IFQ sablefish. Within the subset of vessels subject to the observer fee, only landings accruing against the Federal TAC are included in the fee assessment. A table with additional information about which landings are and are not subject to the observer fee is in NMFS regulations at § 679.55(c) and also shown on page 3 of an informational bulletin titled “Observer Program Fee Collection” on the NMFS Alaska Region Web page at http://www.alaskafisheries.noaa.gov/sustainablefisheries/observers/observerfees.pdf.

Fee Determination

A fee equal to 1.25 percent of the ex-vessel value will be assessed on the landings of groundfish and halibut subject to the fee. Ex-vessel value is determined by multiplying the standard price for groundfish by the round weight equivalent for each species, gear, and port combination, and the standard price for halibut by the headed and gutted weight equivalent. NMFS will assess each landing report submitted via eLandings and each manual landing entered into the IFQ landing database and determine if the landing is subject to the observer fee and, if it is, which groundfish in the landing are subject to the observer fee. All IFQ or CDQ halibut in a landing subject to the observer fee will be assessed as part of the fee liability. For any groundfish or halibut subject to the observer fee, NMFS will apply the appropriate standard ex-vessel prices for the species, gear type, and port, and calculate the observer fee liability associated with the landing.

Processors and registered buyers access the landing-specific, observer fee liability information through NMFS Web Application (https://alaskafisheries.noaa.gov/webapps/efish/login) or eLandings (https://elandings.alaska.gov/). For IFQ halibut, CDQ halibut, and IFQ sablefish, this information is available as soon as the IFQ report is submitted. For groundfish and sablefish that accrue against the fixed gear sablefish CDQ reserve, the observer fee liability information is generally available within 24 hours of receipt of the report. The time lag on the groundfish and sablefish CDQ fee information is necessary because NMFS must process the landings report through the catch accounting system computer programs to determine if all of the groundfish in the landings are subject to the observer fee. Information about which groundfish in a landing accrues against a Federal TAC is not immediately available from the processor's data entry into eLandings.

The intent of the North Pacific Fishery Management Council and NMFS is for vessel owners to split the fee liability 50/50 with the processor or registered buyer. While vessels and processors are responsible for their portion of the fee, the owner of a shoreside processor or a stationary floating processor and the registered buyer are responsible for collecting the fee, including the vessel's portion of the fee, and remitting the full fee liability to NMFS.

NMFS will send invoices to processors and registered buyers for their total fee liability, which is determined by the sum of the fees reported for each landing for that processor or registered buyer for the prior calendar year, by January 15, 2015. Processors and registered buyers must remit the fees to NMFS using NMFS Web Application by February 15, 2015. Processors and registered buyers will have access to this system through a User ID and password issued by NMFS. Instructions for electronic payment will be provided on the NMFS Alaska Region Web site at https://alaskafisheries.noaa.gov and on the observer fee liability invoice to be mailed to each permit holder.

Standard Prices

This notice provides the standard ex-vessel prices for groundfish and halibut species subject to the observer fee in 2014. Data sources for ex-vessel prices are:

• For groundfish other than sablefish IFQ and sablefish accruing against the fixed gear sablefish CDQ reserve, the State of Alaska's Commercial Fishery Entry Commission's (CFEC) gross revenue data, which are based on the Commercial Operator Annual Report (COAR) and Alaska Department of Fish and Game fish tickets; and

• For halibut IFQ, halibut CDQ, sablefish IFQ, and sablefish accruing against the fixed gear sablefish CDQ reserve, the IFQ Buyer Report that is submitted annually to NMFS under § 679.5(l)(7)(i).

The standard prices in this notice were calculated using applicable guidance for protecting confidentiality of data submitted to or collected by NMFS. NMFS does not publish any price information that would permit the identification of an individual or business. At least four persons must make landings of a species with a particular gear type at a particular port in order for NMFS to publish that price data for that species-gear-port combination. Similarly, at least four processors in a particular port must purchase a species harvested with a particular gear type in order for NMFS to publish a price for that species-gear-port combination. Price data that is confidential because fewer than four persons contributed data to a particular species-gear-port combination has been aggregated to protect confidential data.

Groundfish Standard Ex-Vessel Prices

Table 1 shows the groundfish species standard ex-vessel prices for 2014. These prices are based on the CFEC gross revenue data, which are based on landings data from Alaska Department of Fish and Game fish tickets and information from the COAR. The COAR contains statewide buying and production information, and is considered the best routinely collected information to determine the ex-vessel value of groundfish harvested from waters off Alaska. More information about the sources of data and methods used to calculate standard ex-vessel prices for groundfish is in the proposed and final rules for Amendments 86/76 and on the NMFS Alaska Region's Web site at http://www.alaskafisheries.noaa.gov/frules/77fr70062.pdf.

The standard ex-vessel prices for groundfish were calculated by adding the annual volume (weight) and ex-vessel value from the CFEC gross revenue files for 2010, 2011, and 2012 by the species, port, and gear category, and then dividing total ex-vessel value over the 3-year period in each category by total volume in each category. This calculation results in a weighted average ex-vessel price by species, port, and gear category. Three gear categories were used for the standard ex-vessel prices: Pelagic trawl gear, non-pelagic trawl gear, and other gear (hook-and-line, pot, and jig).

CFEC ex-vessel value data are available in the fall of the year following the year the fishing occurred. Thus, it is not possible to base ex-vessel fee liabilities on standard prices that are less than 2 years old. More information about the reasons for using a 3-year rolling average standard ex-vessel price based on the CFEC gross earnings data is contained in the proposed rule for Amendments 86/76 (77 FR 23326; April 18, 2012).

If a particular species is not listed in Table 1, the standard ex-vessel price for a species group, if it exists in the management area, will be used. If price data for a particular species remained confidential once aggregated to the ALL level, data is aggregated by species group (GOA Deep-water Flatfish; GOA Shallow-water Flatfish; GOA Skate, Other; and Other Rockfish). Standard prices for the species groups are shown at the bottom of Table 2.

If a port-level price does not meet the confidentiality requirements, the data are aggregated by port-group. Port-group data is first aggregated by regulatory area in the GOA (Eastern GOA, Central GOA, and Western GOA) and by subarea in the BSAI (BS subarea and AI subarea). Port-group data for Southeast Alaska (SEAK) and the Eastern GOA—with the exception of Cordova, Whittier, and Yakutat in the SEAK—also are presented separately when price data is available. If confidentiality requirements are still not met by aggregating prices across ports at these levels, the prices are aggregated at the level of BSAI or GOA, then statewide (AK) and ports outside of Alaska (OTAK), and finally all ports, including those outside of Alaska (“ALL”).

Standard prices are presented separately for non-pelagic trawl and pelagic trawl when non-confidential data is available. NMFS also calculated prices for a “Pelagic Trawl/Non-pelagic Trawl Combined” when combining trawl price data for landings of a species in a particular port or port group will not violate confidentiality requirements. Creating this standard price category allows NMFS to assess a fee on 2014 landings of some of the species with pelagic trawl gear based on a combined trawl gear price for the port or port group.

If no standard ex-vessel price is listed for the species or species group and gear category combination, no fee will be assessed on that landing. Volume and value data for that species will be added to the standard ex-vessel prices in future years, if that data becomes available and display of a standard ex-vessel price meets confidentiality requirements.

Table 1—Standard Ex-Vessel Prices for Groundfish Species for 2014 Observer Coverage Fee Liability
[Based on volume and value from 2010, 2011, and 2012]
Species 1 2 | Port/Area 3 4 | HAL/POT/JIG | NPT | PTR | PTR/NPT
Alaska Plaice Flounder (133):
| Kodiak | — | $0.08 | — | $0.08
| CGOA | — | 0.08 | — | 0.08
| GOA | — | 0.08 | — | 0.08
| AK | — | 0.08 | — | 0.08
| ALL | — | 0.08 | — | 0.08
Arrowtooth Flounder (121):
| Kodiak | — | 0.06 | $0.06 | —
| CGOA | — | 0.06 | 0.06 | —
| GOA | $0.07 | 0.06 | 0.06 | —
| AK | 0.07 | 0.06 | 0.06 | —
| ALL | 0.07 | 0.06 | 0.06 | —
Black Rockfish (142) | AK | 0.43 | 0.27 | — | 0.27
Bocaccio Rockfish (137):
| Sitka | 0.51 | — | — | —
| SEAK | 0.38 | — | — | —
| EGOA | 0.38 | — | — | —
| GOA | 0.40 | — | — | —
| AK | 0.40 | — | — | —
| ALL | 0.40 | — | — | —
Butter Sole (126):
| Kodiak | — | 0.14 | 0.14 | —
| CGOA | — | 0.14 | 0.14 | —
| GOA | — | 0.14 | 0.14 | —
| AK | — | 0.14 | 0.14 | —
| ALL | — | 0.14 | 0.14 | —
Canary Rockfish (146): | SEAK | 0.48 | — | — | —
| EGOA | 0.48 | — | — | —
| Seward | 0.40 | — | — | —
| CGOA | 0.40 | — | — | —
| GOA | 0.47 | — | — | —
| AK | 0.47 | — | — | —
| ALL | 0.47 | — | — | —
China Rockfish (149): | SEAK | 0.51 | — | — | —
| Cordova | 0.29 | — | — | —
| EGOAxSE | 0.29 | — | — | —
| Homer | 0.41 | — | — | —
| Seward | 0.51 | — | — | —
| CGOA | 0.45 | — | — | —
| GOA | 0.34 | — | — | —
| AK | 0.34 | — | — | —
| ALL | 0.34 | — | — | —
Copper Rockfish (138): | Sitka | 0.56 | — | — | —
| SEAK | 0.54 | — | — | —
| EGOA | 0.33 | — | — | —
| Homer | 0.40 | — | — | —
| CGOA | 0.44 | — | — | —
| GOA | 0.34 | — | — | —
| AK | 0.34 | — | — | —
| ALL | 0.34 | — | — | —
Dover Sole (124): | Kodiak | — | 0.10 | 0.10 | —
| CGOA | — | 0.10 | 0.10 | —
| GOA | — | 0.10 | 0.10 | —
| AK | — | 0.10 | 0.10 | —
| ALL | — | 0.10 | 0.10 | —
Dusky Rockfish (172): | Sitka | 0.41 | — | — | —
| SEAK | 0.38 | — | — | —
| EGOAxSE | 0.24 | — | — | —
| Homer | 0.30 | — | — | —
| Kodiak | 0.31 | 0.18 | 0.15 | —
| Seward | 0.35 | — | — | —
| CGOA | 0.32 | 0.18 | 0.30 | —
| GOA | 0.33 | 0.18 | 0.30 | —
| AK | 0.33 | 0.18 | 0.30 | —
| ALL | 0.33 | 0.18 | 0.30 | —
English Sole (128): | Kodiak | — | 0.15 | — | 0.15
| CGOA | — | 0.15 | — | 0.15
| GOA | — | 0.15 | — | 0.15
| AK | — | 0.15 | — | 0.15
| ALL | — | 0.15 | — | 0.15
Flathead Sole (122): | Kodiak | — | 0.14 | 0.14 | —
| CGOA | — | 0.14 | 0.13 | —
| GOA | — | 0.14 | 0.12 | —
| AK | — | 0.14 | 0.11 | —
| ALL | — | 0.14 | 0.11 | —
Northern Rockfish (136): | Kodiak | — | 0.17 | 0.16 | —
| CGOA | 0.28 | 0.17 | 0.16 | —
| GOA | 0.28 | 0.17 | 0.16 | —
| AK | 0.28 | 0.17 | 0.16 | —
| ALL | 0.28 | 0.17 | 0.16 | —
Octopus (870): | Homer | 0.71 | — | — | —
| Kodiak | 0.48 | 0.52 | 0.49 | —
| CGOA | 0.49 | 0.52 | 0.49 | —
| GOA | 0.47 | 0.52 | 0.47 | —
| BS | 0.25 | — | — | —
| BSAI | 0.25 | — | — | —
| AK | 0.46 | 0.51 | 0.47 | —
| ALL | 0.46 | 0.51 | 0.47 | —
Pacific Cod (110): | Craig | 0.14 | — | — | —
| Hoonah | 0.51 | — | — | —
| Juneau | 0.58 | — | — | —
| Ketchikan | 0.33 | — | — | —
| Petersburg | 0.39 | — | — | —
| Sitka | 0.50 | — | — | —
| SEAK | 0.51 | — | — | —
| Cordova | 0.40 | — | — | —
| Whittier | 0.35 | — | — | —
| EGOAxSE | 0.40 | — | — | —
| Homer | 0.36 | — | — | —
| Kodiak | 0.34 | 0.29 | 0.29 | —
| Seward | 0.37 | — | — | —
| CGOA | 0.34 | 0.29 | 0.29 | —
| King Cove | 0.29 | — | — | —
| WGOA | 0.29 | — | — | —
| GOA | — | 0.30 | 0.17 | —
| Adak | 0.31 | — | — | —
| AI | 0.31 | — | — | —
| Dutch Harbor/Unalaska | 0.34 | 0.30 | — | 0.30
| BS | 0.33 | 0.29 | — | 0.29
| BSAI | — | 0.30 | — | 0.30
| AK | 0.33 | 0.29 | 0.17 | —
| ALL | 0.33 | 0.29 | 0.17 | —
Pacific Ocean Perch (141): | EGOA | 0.45 | — | — | —
| Kodiak | — | 0.17 | 0.16 | —
| CGOA | — | 0.17 | 0.16 | —
| GOA | 0.22 | 0.17 | 0.18 | —
| AK | 0.18 | 0.17 | 0.18 | —
| ALL | 0.18 | 0.17 | 0.18 | —
Pollock (270): | EGOA | 0.12 | — | — | —
| Homer | 0.30 | — | — | —
| Kodiak | 0.13 | 0.18 | 0.18 | —
| CGOA | 0.13 | 0.18 | 0.18 | —
| GOA | 0.13 | 0.18 | 0.17 | —
| Dutch Harbor/Unalaska | — | 0.16 | — | 0.15
| BS | 0.05 | 0.17 | — | 0.16
| BSAI | 0.05 | 0.17 | — | 0.16
| AK | 0.13 | 0.17 | 0.17 | —
| ALL | 0.13 | 0.17 | 0.17 | —
Quillback Rockfish (147): | Hoonah | 0.51 | — | — | —
| Ketchikan | 0.47 | — | — | —
| Petersburg | 0.23 | — | — | —
| Sitka | 0.88 | — | — | —
| SEAK | 0.86 | — | — | —
| Cordova | 0.32 | — | — | —
| EGOAxSE | 0.29 | — | — | —
| Homer | 0.29 | — | — | —
| Seward | 0.36 | — | — | —
| CGOA | 0.36 | — | — | —
| GOA | 0.65 | — | — | —
| AK | 0.65 | — | — | —
| ALL | 0.65 | — | — | —
Redbanded Rockfish (153): | Ketchikan | 0.31 | — | — | —
| Petersburg | 0.21 | — | — | —
| Sitka | 0.43 | — | — | —
| SEAK | 0.32 | — | — | —
| EGOAxSE | 0.30 | — | — | —
| Homer | 0.30 | — | — | —
| Kodiak | 0.26 | 0.35 | — | 0.35
| Seward | 0.33 | — | — | —
| CGOA | 0.31 | 0.35 | — | 0.35
| GOA | 0.32 | 0.35 | — | 0.35
| AK | 0.32 | 0.35 | — | 0.35
| ALL | 0.32 | 0.35 | — | 0.35
Redstripe Rockfish (158): | Sitka | 0.42 | — | — | —
| SEAK | 0.42 | — | — | —
| EGOA | 0.39 | — | — | —
| Homer | 0.26 | — | — | —
| CGOA | 0.26 | — | — | —
| GOA | 0.27 | — | — | —
| AK | 0.27 | — | — | —
| ALL | 0.27 | — | — | —
Rex Sole (125): | Kodiak | — | 0.29 | 0.29 | —
| CGOA | — | 0.29 | 0.29 | —
| GOA | — | 0.29 | 0.28 | —
| AK | — | 0.29 | 0.26 | —
| ALL | — | 0.29 | 0.26 | —
Rock Sole (123): | Kodiak | — | 0.23 | 0.21 | —
| CGOA | — | 0.23 | 0.21 | —
| GOA | — | 0.23 | 0.21 | —
| AK | — | 0.23 | 0.21 | —
| ALL | — | 0.23 | 0.21 | —
Rosethorn Rockfish (150): | SEAK | 0.36 | — | — | —
| EGOA | 0.44 | — | — | —
| GOA | 0.43 | — | — | —
| AK | 0.43 | — | — | —
| ALL | 0.43 | — | — | —
Rougheye Rockfish (151): | Craig | 0.28 | — | — | —
| Hoonah | 0.30 | — | — | —
| Ketchikan | 0.30 | — | — | —
| Petersburg | 0.25 | — | — | —
| Sitka | 0.44 | — | — | —
| SEAK | 0.36 | — | — | —
| Cordova | 0.26 | — | — | —
| Whittier | 0.56 | — | — | —
| EGOAxSE | 0.28 | — | — | —
| Homer | 0.30 | — | — | —
| Kodiak | 0.32 | 0.19 | 0.19 | —
| Seward | 0.32 | — | — | —
| CGOA | 0.32 | 0.19 | 0.19 | —
| GOA | 0.32 | 0.21 | 0.19 | —
| Dutch Harbor/Unalaska | 0.30 | — | — | —
| BS | 0.31 | — | — | —
| BSAI | 0.31 | — | — | —
| AK | 0.32 | 0.21 | 0.19 | —
| ALL | 0.32 | 0.21 | 0.19 | —
Sablefish (blackcod) (710): | Ketchikan | ⁵ n/a | — | — | —
| Petersburg | n/a | — | — | —
| Sitka | n/a | — | — | —
| SEAK | n/a | — | — | —
| Cordova | n/a | — | — | —
| Whittier | n/a | — | — | —
| EGOAxSE | n/a | — | — | —
| Homer | n/a | — | — | —
| Kodiak | n/a | 3.60 | 3.39 | —
| Seward | n/a | — | — | —
| CGOA | n/a | 3.60 | 4.04 | —
| GOA | n/a | 3.60 | 4.04 | —
| Adak | n/a | — | — | —
| AI | n/a | — | — | —
| Dutch Harbor/Unalaska | n/a | — | — | —
| BS | n/a | — | — | —
| AK | n/a | 3.60 | 4.04 | —
| ALL | n/a | 3.60 | 4.04 | —
Sand Sole (132): | Kodiak | — | 0.15 | — | 0.15
| CGOA | — | 0.20 | — | 0.20
| GOA | — | 0.20 | — | 0.20
| AK | — | 0.20 | — | 0.20
| ALL | — | 0.20 | — | 0.20
Shortraker Rockfish (152): | Ketchikan | 0.30 | — | — | —
| Petersburg | 0.25 | — | — | —
| Sitka | 0.43 | — | — | —
| SEAK | 0.34 | — | — | —
| Cordova | 0.31 | — | — | —
| Whittier | 0.31 | — | — | —
| EGOAxSE | 0.42 | — | — | —
| Homer | 0.32 | — | — | —
| Kodiak | 0.34 | 0.23 | 0.22 | —
| Seward | 0.34 | — | — | —
| CGOA | 0.34 | 0.23 | 0.21 | —
| GOA | 0.35 | 0.27 | 0.21 | —
| Dutch Harbor/Unalaska | 0.09 | — | — | —
| BS | 0.17 | — | — | —
| BSAI | 0.17 | — | — | —
| AK | 0.34 | 0.27 | 0.21 | —
| ALL | 0.34 | 0.27 | 0.21 | —
Silvergray Rockfish (157): | Craig | 0.31 | — | — | —
| Ketchikan | 0.34 | — | — | —
| Sitka | 0.43 | — | — | —
| SEAK | 0.37 | — | — | —
| EGOAxSE | 0.34 | — | — | —
| Homer | 0.38 | — | — | —
| Seward | 0.38 | — | — | —
| CGOA | 0.38 | — | — | —
| GOA | 0.37 | — | 0.21 | 0.21
| AK | 0.37 | — | 0.21 | 0.21
| ALL | 0.37 | — | 0.21 | 0.21
Skate, Big (702): | EGOAxSE | 0.38 | — | — | —
| EGOA | 0.38 | — | — | —
| Homer | 0.40 | — | — | —
| Kodiak | 0.36 | 0.39 | 0.36 | —
| CGOA | 0.36 | 0.39 | 0.36 | —
| GOA | 0.37 | 0.39 | 0.36 | —
| AK | 0.37 | 0.39 | 0.36 | —
| ALL | 0.37 | 0.39 | 0.36 | —
Skate, Longnose (701): | SEAK | 0.28 | — | — | —
| EGOAxSE | 0.37 | — | — | —
| Homer | 0.40 | — | — | —
| Kodiak | 0.40 | 0.39 | 0.41 | —
| Seward | 0.39 | — | — | —
| CGOA | 0.40 | 0.39 | 0.41 | —
| GOA | 0.39 | 0.39 | 0.41 | —
| AK | 0.39 | 0.39 | 0.41 | —
| ALL | 0.39 | 0.39 | 0.41 | —
Skate, Other (700): | Kodiak | 0.34 | — | — | —
| CGOA | 0.41 | — | — | —
| GOA | 0.38 | — | — | —
| AK | 0.34 | 0.05 | — | 0.05
| ALL | 0.34 | 0.05 | — | 0.05
Squid (875): | Kodiak | — | — | 0.07 | 0.07
| CGOA | — | — | 0.07 | 0.07
| GOA | — | — | 0.07 | 0.07
| AK | — | — | 0.08 | 0.08
| ALL | — | — | 0.08 | 0.08
Starry Flounder (129): | Kodiak | — | 0.07 | 0.07 | —
| CGOA | — | 0.07 | 0.07 | —
| GOA | — | 0.07 | 0.07 | —
| AK | — | 0.07 | 0.07 | —
| ALL | — | 0.07 | 0.07 | —
Thornyhead Rockfish (Idiots) (143): | Hoonah | 1.00 | — | — | —
| Ketchikan | 1.20 | — | — | —
| Petersburg | 1.01 | — | — | —
| Port Alexander | 1.03 | — | — | —
| Sitka | 1.04 | — | — | —
| SEAK | 1.03 | — | — | —
| Cordova | 0.53 | — | — | —
| EGOAxSE | 0.84 | — | — | —
| Homer | 0.85 | — | — | —
| Kodiak | 0.66 | 0.49 | — | 0.49
| Seward | 0.80 | — | — | —
| CGOA | 0.75 | 0.49 | — | 0.49
| King Cove | 0.96 | — | — | —
| WGOA | 0.75 | — | — | —
| GOA | — | 0.50 | — | 0.50
| Adak | 0.42 | — | — | —
| AI | 0.55 | — | — | —
| Dutch Harbor/Unalaska | 0.72 | — | — | —
| BS | 0.72 | — | — | —
| AK | 0.83 | 0.50 | — | 0.50
| ALL | 0.83 | 0.50 | — | 0.50
Tiger Rockfish (148): | SEAK | 0.32 | — | — | —
| EGOAxSE | 0.25 | — | — | —
| Homer | 0.28 | — | — | —
| Seward | 0.37 | — | — | —
| CGOA | 0.35 | — | — | —
| GOA | 0.31 | — | — | —
| AK | 0.31 | — | — | —
| ALL | 0.31 | — | — | —
Vermilion Rockfish (184): | GOA | 0.30 | — | — | —
| AK | 0.30 | — | — | —
| ALL | 0.33 | — | — | —
Yelloweye Rockfish (145): | Craig | 1.39 | — | — | —
| Hoonah | 0.53 | — | — | —
| Juneau | 0.99 | — | — | —
| Ketchikan | 1.05 | — | — | —
| Petersburg | 1.12 | — | — | —
| Sitka | 1.50 | — | — | —
| SEAK | 1.35 | — | — | —
| Cordova | 0.95 | — | — | —
| Whittier | 0.82 | — | — | —
| EGOAxSE | 0.96 | — | — | —
| Homer | 0.70 | — | — | —
| Kodiak | 0.47 | 0.24 | — | 0.24
| Seward | 0.67 | — | — | —
| CGOA | 0.64 | 0.24 | — | 0.24
| WGOA | 0.43 | — | — | —
| GOA | — | 0.24 | — | 0.24
| Dutch Harbor/Unalaska | 0.21 | — | — | —
| BS | 0.21 | — | — | —
| BSAI | 0.21 | — | — | —
| AK | 1.15 | 0.24 | — | 0.24
| ALL | 1.15 | 0.24 | — | 0.24
Yellowtail Rockfish (155): | Sitka | 0.54 | — | — | —
| SEAK | 0.53 | — | — | —
| EGOA | 0.52 | — | — | —
| CGOA | 0.20 | — | — | —
| GOA | 0.30 | — | — | —
| AK | 0.30 | — | — | —
| ALL | 0.30 | — | — | —
— = no landings in last 3 years or the data is confidential.
¹ If species is not listed, use price for the species group in Table 2 if it exists in the management area. If no price is available for the species or species group, no fee will be assessed on that landing. That species will come into standard ex-vessel prices in future years.
² For species codes, see Table 2a to 50 CFR part 679.
³ Regulatory areas are defined at § 679.2. (AI = Aleutian Islands subarea; AK = Alaska; ALL = all ports including those outside Alaska; BS = Bering Sea subarea; BSAI = Bering Sea/Aleutian Islands; CGOA = Central Gulf of Alaska; EGOA = Eastern Gulf of Alaska; EGOAxSE = Eastern Gulf of Alaska except Southeast Alaska; GOA = Gulf of Alaska; SEAK = Southeast Alaska; WGOA = Western Gulf of Alaska).
⁴ If a price is listed for the species, port, and gear type combination, that price will be applied to the round weight equivalent for groundfish landings. If no price is listed for the port and gear type combination, use port group and gear type combination.
⁵ n/a = ex-vessel prices for sablefish landed with hook-and-line, pot, or jig gear are listed in Table 3 with the prices for IFQ and CDQ landings.

Table 2—Standard Ex-Vessel Prices for Groundfish Species Groups for 2014 Observer Coverage Fee Liability
[Based on volume and value from 2010, 2011, and 2012]
Species Group ¹ | Port/Area 2 3 | HAL/ POT/JIG | NPT | PTR
GOA Deep Water Flatfish ⁴ (DFL4) | CGOA GOA | — — | $0.10 $0.10 | $0.10 $0.10
GOA Shallow Water Flatfish ⁵ (SFL1) | CGOA GOA | — — | $0.20 $0.20 | $0.15 $0.15
GOA Skate, Other (USKT) | SEAK | $0.34 | — | —
| EGOA | $0.34 | — | —
| CGOA | $0.41 | — | —
| GOA | $0.38 | — | —
Other Rockfish 6 7 (ROCK) | SEAK | $0.33 | — | —
| EGOAxSE | $0.84 | — | —
| CGOA | $0.59 | $0.25 | $0.22
| WGOA | $0.43 | — | —
| GOA | — | $0.25 | $0.23
| AI | $0.55 | — | —
| BS | $0.71 | — | —
| AK | — | $0.25 | $0.23
— = no landings in last 3 years or the data is confidential.
¹ If species is not listed in Table 1, use price for the species group if it exists in the management area. If no price is available for the species or species group, no fee will be assessed on that landing. That species will come into standard ex-vessel prices in future years.
² Regulatory areas are defined at § 679.2. (AI = Aleutian Islands subarea; AK = Alaska; ALL = all ports including those outside Alaska; BS = Bering Sea subarea; CGOA = Central Gulf of Alaska; EGOA = Eastern Gulf of Alaska; EGOAxSE = Eastern Gulf of Alaska except Southeast Alaska; GOA = Gulf of Alaska; SEAK = Southeast Alaska; WGOA = Western Gulf of Alaska).
³ If a price is listed for the species, port, and gear type combination, that price will be applied to the round weight equivalent for groundfish landings. If no price is listed for the port and gear type combination, use port group and gear type combination.
⁴ “Deep-water flatfish” in the GOA means Dover sole, Greenland turbot, Kamchatka flounder, and deepsea sole.
⁵ “Shallow-water flatfish” in the GOA means flatfish not including “deep-water flatfish,” flathead sole, rex sole, or arrowtooth flounder.
⁶ In the GOA:
“Other rockfish (slope rockfish)” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergray), S. diploproa (splitnose), S. saxicola (stripetail), S. miniatus (vermilion), S. reedi (yellowmouth), S. entomelas (widow), and S. flavidus (yellowtail).
“Demersal shelf rockfish” means Sebastes pinniger (canary), S. nebulosus (china), S. caurinus (copper), S. maliger (quillback), S. helvomaculatus (rosethorn), S. nigrocinctus (tiger), and S. ruberrimus (yelloweye).
“Other rockfish” in the Western and Central Regulatory Areas means “other rockfish (slope rockfish)” and demersal shelf rockfish.
“Other rockfish” in the West Yakutat District of the EGOA means “other rockfish (slope rockfish),” northern rockfish, S. polyspinous, and demersal shelf rockfish.
“Other rockfish” in the SEO District of the GOA (and SEAK for Table 2) means “other rockfish (slope rockfish) and northern rockfish, S. polyspinous.
⁷ “Other rockfish” in the BSAI includes all Sebastes and Sebastolobus species except for Pacific ocean perch, northern, shortraker, and rougheye rockfish.

Halibut and Sablefish IFQ and CDQ Standard Ex-Vessel Prices

Table 3 shows the observer fee standard ex-vessel prices for halibut and sablefish. These standard prices are calculated as a single annual average price, by port or port group. Volume and ex-vessel value data collected on the IFQ Buyer Report for 2013 landings was used to calculate the standard ex-vessel prices used to calculate the 2014 observer fee liability for halibut IFQ, halibut CDQ, sablefish IFQ, and sablefish landings that accrue against the fixed gear sablefish CDQ reserve.

Table 3—Standard Ex-Vessel Prices for Halibut IFQ, Halibut CDQ, Sablefish IFQ, and Sablefish Accruing Against the Fixed Gear Sablefish CDQ Reserve for the 2014 Observer Fee Liability
[Based on 2013 IFQ Buyer Report]
Species | Port/Area ¹ | Price ²
Halibut (200): | Ketchikan | $5.22
| Petersburg | $5.42
| SEAK | $5.04
| Cordova | $5.31
| EGOAxSE | $5.04
| Homer | $5.37
| Kenai | $4.51
| Kodiak | $4.92
| Seward | $5.25
| CGOA | $5.04
| WGOA | $5.04
| AI | $5.04
| BS | $5.04
| AK | $5.04
| OTAK | $5.04
| ALL | $5.04
Sablefish (710): | Ketchikan | $2.82
| SEAK | $2.88
| EGOAxSE | $2.88
| Homer | $2.86
| Kodiak | $2.92
| Seward | $2.87
| CGOA | $2.88
| WGOA | $2.88
| AI | $2.88
| BS | $2.88
| AK | $2.88
| OTAK | $2.88
| ALL | $2.88
¹ Regulatory areas are defined at § 679.2. (AI = Aleutian Islands subarea; AK = Alaska; ALL = all ports including those outside Alaska; BS = Bering Sea subarea; CGOA = Central Gulf of Alaska; EGOAxSE = Eastern Gulf of Alaska except Southeast Alaska; OTAK = Outside Alaska; SEAK = Southeast Alaska; WGOA = Western Gulf of Alaska).
² If a price is listed for the species and port combination, that price will be applied to the round weight equivalent for sablefish landings and the headed and gutted weight equivalent for halibut landings. If no price is listed for the port, use port group.

Authority: 16 U.S.C. 1801 et seq.

Dated: December 4, 2013.
James P. Burgess,
Acting Deputy Director, Office of Sustainable Fisheries, National Marine Fisheries Service.

[FR Doc. 2013-29356 Filed 12-6-13; 8:45 am]

BILLING CODE 3510-22-P